ENVIRONMENTAL PROTECTION AGENCY

[FRL 9941-18-Region 2]

Proposed CERCLA Section 122(g)(4) Administrative Settlement Agreement and Order on Consent for the Mercury Refining Superfund Site, Towns of Guilderland and Colonie, Albany County, New York

AGENCY: Environmental Protection Agency (EPA).

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region 2, of a proposed de minimis administrative settlement agreement and order on consent pursuant to Section 122(g)(4) of CERCLA, 42 U.S.C. 9622(g)(4). The settlement agreement also includes settlement of claims under the Federal Priority Statute, 31 U.S.C. 3713 (“FPS”), and the Federal Debt Collection Procedures Act, 28 U.S.C. 3301, et seq. (“FDCPA”) under the authority of the Attorney General of the United States to compromise and settle claims of the United States. The settlement is between EPA, Yates Foil USA, Inc., and Craig Yates pertaining to the Mercury Refining Superfund Site (“Site”) located in the Towns of Guilderland and Colonie, Albany County, New York. The settlement requires Yates Foil USA, Inc. and Craig Yates to pay $275,000 to the EPA Hazardous Substance Superfund in reimbursement of response costs incurred by the EPA at the Site. The settlement includes a covenant not to sue pursuant to Sections 106 and 107 of CERCLA, 42 U.S.C. 9606 and 9607, relating to the Site, the FPS, 31 U.S.C. 3713, and the FDCPA, 28 U.S.C. 3301 et seq., subject to standard reservations, and protection from contribution actions or claims as provided by Sections 113(f)(2) and 122(g)(5) of CERCLA, 42 U.S.C. 9613(f)(2) and 9622(g)(5). For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region II, 290 Broadway, New York, New York 10007-1866.

DATES: Comments must be submitted on or before February 10, 2016.

ADDRESSES: The proposed settlement is available for public inspection at EPA Region 2 offices at 290 Broadway, New York, New York 10007-1866. Comments should be sent to the individual identified below and should reference the Mercury Refining Superfund Site, Index No. CERCLA-02-2015-2020. To request a copy of the proposed settlement agreement, please contact the individual identified below.

FOR FURTHER INFORMATION CONTACT: Sharon E. Kivowitz, Assistant Regional Counsel, New York/Caribbean Superfund Branch, Office of Regional Counsel, U.S. Environmental Protection Agency, 17th Floor, 290 Broadway, New York, New York 10007-1866. Telephone: 212-637-3183. E-Mail: kivowitz.sharon@epa.gov.

Dated: December 30, 2015.
Walter Mugdan,
Director, Emergency and Remedial Response Division, EPA, Region 2.

[FR Doc. 2016-00338 Filed 1-8-16; 8:45 am]

BILLING CODE 6560-50-P